DEPARTMENT OF AGRICULTURE

Economic Research Service

Notice of Intent To Request Renewal of a Currently Approved Information Collection

AGENCY: Economic Research Service, USDA.

ACTION: Notice and request for comments.

SUMMARY: In accordance with the Paperwork Reduction Act of 1995, this notice announces the intention of the Economic Research Service (ERS) to request extension of a currently approved information collection, the Generic Clearance for Survey Research Studies.

DATES: Comments on this notice must be received by November 26, 2018 to be assured of consideration.

ADDRESSES: Address all comments concerning this notice to Pheny Weidman, ERS Clearance Officer, Economic Research Service, Room 4-163B, 1400 Independence Ave. SW, Mail Stop 1800, Washington, DC 20050-1800. Submit electronic comments to pweidman@ers.usda.gov.

FOR FURTHER INFORMATION CONTACT: Pheny Weidman at the address in the preamble. Tel. 202-694-5013.

SUPPLEMENTARY INFORMATION:

Title: Generic Clearance for Survey Research Studies.

OMB Number: 0536-0073.

Expiration Date of Approval: Three years from the date of approval.

Type of Request: Extension of a currently approved collection.

Abstract: In accordance with the Paperwork Reduction Act of 1995 (Pub. L. 104-13) and OMB regulations at 5 CFR part 1320 (60 FR 44978, August 29, 1995), this notice announces the ERS' intention to request renewal of approval from the Office of Management and Budget (OMB) for a generic clearance that will allow ERS to rigorously develop, test, and evaluate its survey methodologies, instruments, and administration. The mission of ERS is to provide economic and other social science information and analysis for public and private decisions on agriculture, food, natural resources, and rural America. This request is part of an on-going initiative to improve ERS data product quality, as recommended by both its own guidelines and those of OMB.

The purpose of this generic clearance is to allow ERS to evaluate, adopt, and use state-of-the-art and multi-disciplinary research to improve and enhance the quality of its current data collections. This clearance will also be used to aid in the development of new surveys. It will help to ensure that requested data can be provided in the desired format, reporting burden (time and financial resources) is minimized, collection instruments are clearly understood, and the impact of collection requirements on respondents can be properly assessed.

ERS envisions using a variety of survey improvement techniques, as appropriate to the individual project under investigation. These include focus groups, market analysis, cognitive and usability laboratory and field techniques, exploratory interviews, behavior coding, and respondent debriefing.

Following standard OMB requirements, ERS will inform OMB individually in writing of the purpose, scope, time frame, and number of burden hours used for each survey improvement or development project it undertakes under this generic clearance. ERS will also provide OMB with a copy of the data collection instrument (if applicable), and all other materials describing the project.

Authority: These data will be collected under the authority of 7 U.S.C. 2204(a).

ERS intends to protect respondent information under the Privacy Act of 1974, Section 1770 of the Food Security Act of 1985, and 7 U.S.C. 2276. ERS has decided not to invoke the Confidential Information Protection and Statistical Efficiency Act of 2002 (CIPSEA). The complexity and cost necessary to invoke CIPSEA is not justified given the nature of the collection; the collections would generally be conducted by ERS' contractors and designed to be hosted in non-government owned computer systems, where CIPSEA compliance could not be assured.

Specific details regarding information handling will be specified in individual submissions under this generic clearance.

Estimate of Burden: Public reporting burden for these collections of information is estimated to average from .5 to 1.5 hours per respondent, depending upon the information collection and the technique used to test for that particular collection.

Respondents: Individuals or households, farms, and businesses or other for-profits.

Estimated Total Number of Respondents: 3,630.

Estimated Total Annual Burden on Respondents: 1,820 hours. Public reporting burden for these collections of information is estimated to average from .5 to 1.5 hours per respondent, dependent upon the survey and the technique used to test for that particular survey.

Copies of this information collection can be obtained from Pheny Weidman at the address in the preamble.

Comments: Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; (d) ways to minimize the burden of the collection of information on those who are to respond, including through the use of appropriate automated, electronic, mechanical, or other technological collection techniques or other forms of information technology. Comments should be sent to the address in the preamble. All responses to this notice will be summarized and included in the request for OMB approval. All comments will also become a matter of public record.

Dated: September 19, 2018.
Chris Hartley,
Interim Administrator, Economic Research Service.

[FR Doc. 2018-21051 Filed 9-26-18; 8:45 am]

BILLING CODE 3410-18-P